DEPARTMENT OF COMMERCE

International Trade Administration

[A-580-815]

Cold-Rolled Carbon Steel Flat Products From the Republic of Korea: New Shipper Review

AGENCY: Import Administrations, International Trade Administration, Department of Commerce.

ACTION: Notice of recission of the new shipper review of Hyundai Pipe Co., Ltd. for the period August 1, 1999 through July 31, 2000.

SUMMARY: On October 5, 2000, in response to a request made by Hyundai Pipe Co., Ltd. (HDP), the Department of Commerce (Department) published the notice of initiation of a new shipper review regarding cold-rolled carbon steel flat products from the Republic of Korea., for the period August 1, 1999 through July 31, 2000. Because HDP has withdrawn its request for review, the Department is rescinding this review in accordance with 19 CFR 351.214(f)(1).

EFFECTIVE DATE: December 15, 2000.

FOR FURTHER INFORMATION CONTACT: James Doyle, Enforcement Group III, Office 9, Import Administration, International Trade Administration, U.S. Department of Commerce, 1401 Constitution Avenue, NW., Washington, DC 20230; telephone 202-482-0159.

SUPPLEMENTARY INFORMATION:

Applicable Statute and Regulations

Unless otherwise indicated, all citations to the Tariff Act of 1930, as amended (the Act), are references to the provisions effective January 1, 1995, the effective date of the Uruguay Round Agreements Act. In addition, unless otherwise indicated, all citations to the Department's regulations are to the regulations codified at 19 CFR Part 351 (2000).

Background

On August 31, 2000, HDP requested that the Department conduct a new shipper review with respect to HDP's U.S. entries of cold-rolled carbon steel flat products from Korea made during the period August 1, 1999 through July 31, 2000. On October 5, 2000, the Department published a notice of initiation of the new shipper review of cold-rolled carbon steel flat products from Korea, in accordance with 19 CFR 351.221(c)(1)(i). See Certain Cold-Rolled Carbon Steel Flat Products from Korea: Initiation of New Shipper Antidumping Duty Administrative Review, 65 FR 59390. On November 7, 2000, HDP withdrew its request for a review.

Rescission of Review

Pursuant to Departmental regulations, the Department will rescind a new shipper administrative review “if a party that requested a review withdraws its request not later than 60 days after the date of publication of notice of initiation of the requested review.” See 19 CFR 351.214(f)(1). HDP's withdrawal of its request for review was within the 60-day time limit; accordingly, we are rescinding the new shipper administrative review regarding HDP's U.S. entries of cold-rolled carbon steel flat products from Korea for the period August 1, 1999 through July 31, 2000, and will issue appropriate assessment instructions to the U.S. Customs Service.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation. This determination is issued in accordance with 19 CFR 351.214(f)(3) and Section 777(i)(1) of the Act.

Dated: December 7, 2000.
Joseph A. Spetrini,
Deputy Assistant Secretary, Enforcement Group III.

[FR Doc. 00-31942 Filed 12-14-00; 8:45 am]

BILLING CODE 3510-DS-P